DEPARTMENT OF HOMELAND SECURITY

[Docket No. DHS-2020-0035]

Privacy Act of 1974; Computer Matching Program

AGENCY: U.S. Citizenship and Immigration Services (USCIS), Department of Homeland Security (DHS).

ACTION: Notice of a re-established matching program.

SUMMARY: As required by the Privacy Act of 1974, as amended, DHS/USCIS is issuing public notice of the re-established computer matching program between DHS, USCIS and the California Department of Social Services (CA-DSS), titled “Verification Division DHS-USCIS/CA-DSS.”

DATES: This re-established matching program will commence not sooner than 30 days after publication of this notice, provided no comments are received that warrant a change to this notice. This matching program will be conducted for an initial term of 18 months (from approximately January 28, 2021 to July 27, 2022) and within 3 months of expiration may be renewed for one additional year if the parties make no substantive change to the matching program and certify that the program has been conducted in compliance with the matching agreement.

ADDRESSES: You may submit comments, identified by docket number DHS-2020-0035, at:

• Federal eRulemaking Portal: http://www.regulations.gov. Please follow the instructions for submitting comments.

• Mail and hand delivery or commercial delivery: U.S. Citizenship and Immigration Services, ATTN: Privacy Officer—Donald K. Hawkins, 20 Massachusetts Avenue NW, Washington, DC 20529.

Instructions: All submissions received must include the words “Department of Homeland Security” and docket number DHS-2020-0035. All comments received will be posted without change to http://www.regulations.gov, including any personal information provided.

Docket: For access to the docket to read background documents or comments received, go to http://www.regulations.gov.

FOR FURTHER INFORMATION CONTACT: DHS Privacy Office Chief Privacy Officer Constantina Kozanas at 202-343-1717.

SUPPLEMENTARY INFORMATION: The DHS-USCIS provides this notice in accordance with the Privacy Act of 1974 (5 U.S.C. 552a), as amended by the Computer Matching and Privacy Protection Act of 1988 (Pub. L. 100-503) and the Computer Matching and Privacy Protection Amendments of 1990 (Pub. L. 101-508) (Privacy Act); Office of Management and Budget (OMB) Final Guidance Interpreting the Provisions of Public Law 100-503, the Computer Matching and Privacy Protection Act of 1988, 54 FR 25818 (June 19, 1989); and OMB Circular A-108, 81 FR 94424 (December 23, 2016).

Participating Agencies

The Department of Homeland Security, U.S. Citizenship and Immigration Services (DHS-USCIS) is the source agency and the California Department of Social Services (CA-DSS) is the recipient agency.

Authority for Conducting the Matching Program

Section 121 of the Immigration Reform and Control Act (IRCA) of 1986, Pub. Law No. 99-603, as amended by the Personal Responsibility and Work Opportunity Reconciliation Act of 1996 (PRWORA), Pub. Law No. 104-193, 110 Stat. 2168 (1996), requires DHS to establish a system for the verification of immigration status of alien applicants for, or recipients of, certain types of benefits as specified within IRCA, and to make this system available to state agencies that administer such benefits. Section 121(c) of IRCA amends Section 1137 of the Social Security Act and certain other sections of law that pertain to federal entitlement benefit programs. Section 121(c) requires state agencies administering these programs to use DHS-USCIS's verification system to make eligibility determinations in order to prevent the issuance of benefits to ineligible alien applicants. The Verification Information System (VIS) used by the DHS/USCIS Systematic Alien Verification for Entitlements (SAVE) Program is the DHS-USCIS system available to the CA-DSS and other covered agencies for use in making these eligibility determinations.

The Illegal Immigration Reform and Immigrant Responsibility Act of 1996 (IIRIRA), Public Law 104-208, 110 Stat. 3009 (1996) grants federal, state, or local government agencies seeking to verify or ascertain the citizenship or immigration status of any individual within the jurisdiction of the agency with the authority to request such information from DHS-USCIS for any purpose authorized by law, and to send information related to immigration status information to DHS-USCIS, notwithstanding any other provision of law.

CA-DSS will access information contained in the SAVE Program for the purpose of confirming the immigration status of alien applicants for, or recipients of, benefits it administers to discharge its obligation to conduct such verifications pursuant to Section 1137 of the Social Security Act (42 U.S.C. 1320b-7(a) et seq.), Section 213A of the Immigration and Nationality Act (8 U.S.C. 1183a and 1631), and California Welfare and Institution Codes 11104.1, 14007.5 and 14011.2.

Purpose(s)

The purpose of this Agreement is to re-establish the terms and conditions governing CA-DSS's access to, and use of, the DHS-USCIS Systematic Alien Verification for Entitlements (SAVE) Program, which provides immigration status information from federal immigration records to authorized users, and to comply with the Computer Matching and Privacy Protections Act of 1988.

CA-DSS will use the SAVE Program to verify the immigration status of non-U.S. citizens who apply for federal benefits (Benefit Applicants) under Temporary Assistance to Needy Families (TANF) and Supplemental Nutrition Assistance Program (SNAP) programs that CA-DSS administers. CA-DSS will use the information obtained through the SAVE Program to determine whether Benefit Applicants possess the requisite immigration status to be eligible for the TANF and SNAP programs administered by CA-DSS.

Categories of Individuals

DHS-USCIS will provide the following to CA-DSS: Records in DHS-USCIS VIS and SAVE Program containing information related to the status of aliens and other persons on whom DHS-USCIS has a record as an applicant, petitioner, or beneficiary.

CA-DSS will provide the following to DHS-USCIS: CA-DSS records pertaining to alien and naturalized/derived United States citizen applicants for, or recipients of, entitlement benefit programs administered by the State.

Categories of Records

Data elements contained within CA-DSS records that may be matched with federal immigration records during automated initial verification or additional verification include the following: Full name; Date of Birth; One or More Immigration Number (e.g. Alien Registration USCIS Number; Arrival Departure Record (I-94 Number); SEVIS ID Number; Certificate of Naturalization Number; Certificate of Citizenship Number, or Unexpired Passport Number); and, Other information from Immigration Documentation (e.g. Country of Birth, Date of Entry, Employment Authorization Category).

Data elements contained within DHS-USCIS's records to be provided to CA-DSS may consist of the following: Full name; Date of Birth; one or more Immigration Number (e.g. Alien Registration USCIS Number; Arrival Departure Record (I-94 Number); SEVIS ID Number; Certificate of Naturalization Number, Certificate of Citizenship Number, or Unexpired Passport Number); Other information from Immigration Documentation (e.g. Country of Birth; Date of Entry; Employment Authorization Category); Sponsorship Data (e.g. name, address, and social security number of FORM I-864/I-864EZ sponsors and Form I-864A household members, when applicable); and Case Verification Number.

System of Records

DHS/USCIS-004 Systematic Alien Verification for Entitlements (SAVE) Systems of Records Notice, 85 FR 31798 (May 27, 2020).

Constantina Kozanas,
Chief Privacy Officer, Department of Homeland Security.

[FR Doc. 2020-26699 Filed 12-3-20; 8:45 am]

BILLING CODE 9110-9L-P